DEPARTMENT OF AGRICULTURE

Food and Nutrition Service

Request for Information: Center for WIC Modernization and Delivery

AGENCY: Food and Nutrition Service (FNS), USDA.

ACTION: Notice, correction.

SUMMARY: The Food and Nutrition Service published a document in the Federal Register of November 8, 2021, concerning a Request for Information about establishing a resource center that supports State and local Special Supplemental Nutrition Program for Women, Infants, and Children (WIC) agencies in improving the WIC application and certification journey. The document is missing a contact email. To avoid any confusion, we are re-publishing the notice in its entirety with the missing email information:

The Food and Nutrition Service (FNS) is issuing this Request for Information (RFI) to gain insights from interested parties about establishing a resource center that supports State and local Special Supplemental Nutrition Program for Women, Infants, and Children (WIC) agencies in improving the WIC application and certification journey.

This is a request for information that may inform a future cooperative agreement. It is not a solicitation for proposals or proposal abstracts. The purpose of this notice is to:

1. Determine the level of interest that exists for the proposed service;

2. Obtain information about the approach to providing the service, including needs, capabilities, and requirements; and

3. Gather information on the potential constraints and risks associated with this approach. Information gathered through this RFI may be used to inform potential strategies for supporting and improving State and local WIC operations. FNS welcomes comments from all stakeholders.

DATES: Written comments must be received on or before December 8, 2021.

ADDRESSES: FNS is seeking information from a broad array of stakeholders—such as nonprofits, WIC State agencies, WIC local agencies, and others—about the Center for WIC Modernization and Delivery, the capabilities necessary to complete this work, relevant examples or case studies, and the capacity needed to support State and local WIC agencies. Responses to this RFI may be submitted by a single party or by a team.

USDA invites submission of the requested information through one of the following methods:

• Federal eRulemaking Portal: Go to http://www.regulations.gov. Follow the online instructions for submitting comments.

• Email: FNS will accept electronic submissions emailed to SM.FNCS.WIC.Innovation@usda.gov. The email should contain the subject line, “Response to RFI: Center for WIC Modernization and Delivery.”

All comments submitted in response to this RFI will be included in the record and will be made available to the public. Please be advised that the substance of the comments and the identity of the individuals or entities submitting the comments will be subject to public disclosure. USDA will make the comments publicly available via http://www.regulations.gov.

Response to this RFI is voluntary. Respondents should respond to this RFI in a Microsoft Word document attached to email. This document should contain the following:

• Three clearly delineated sections: (1) Cover page with company name and contact information; (2) approach, no more than 10 single-spaced pages in length; and (3) business information.

• 1-inch margins (top, bottom, and sides).

• Times New Roman and 12 point font.

Privacy Note: All comments received from members of the public will be available for public viewing on regulations.gov.

In accordance with FAR 15.202(3), responses to this notice are not offers and cannot be accepted by the Government to form a binding contract. Responders are solely responsible for all expenses associated with responding to this RFI.

FOR FURTHER INFORMATION CONTACT: Sarah Widor, Director, Supplemental Food Programs Division at (703) 305-2746, sarah.widor@usda.gov.

SUPPLEMENTARY INFORMATION:

I. Background

The American Rescue Plan Act of 2021 (ARPA; Pub. L. 117-2) provided $390 million in funding for WIC to carry out outreach, innovation, and program modernization efforts to increase WIC participation and redemption of benefits. See ARPA section 1106. Despite clear evidence that WIC drives better health outcomes, only about 57% of WIC-eligible mothers and children participated in the program in 2018. The funding provided through ARPA is a critical opportunity for WIC to undertake a range of high-impact projects to increase WIC's participation rate through an improved enrollment and participant experience, and to reduce disparities in program delivery.

Given this unprecedented opportunity to invest in programmatic innovations, FNS solicited input from a diverse range of stakeholders. FNS convened 27 listening sessions representing different stakeholder perspectives, interests, and geographies on ways to increase program participation and retention, improve the participant experience, streamline benefit delivery, and reduce disparities in program delivery. FNS also partnered with the U.S. Digital Service (USDS) to conduct research on how to improve the WIC certification process. This RFI is seeking information to build on that research.

FNS would like to partner with one or more organizations to create a Center for WIC Modernization and Delivery that will leverage human-centered design (HCD), modern technology practices, and data to improve the certification journey for WIC participants. This Center will be a resource for the 89 WIC State agencies (States, DC, territories, and Indian Tribal Organizations), and potentially WIC local agencies, to access cross-functional delivery capabilities to support digital transformation and service design initiatives. These capabilities might include data science, design, engineering, procurement, product management, and research expertise that states can leverage to develop and implement solutions aimed at improving WIC certification processes. The Center will work closely with FNS and USDS to define its approach and ensure solutions are practical, integrated into clinic practices, and drive towards a better participant journey through the WIC program and improved outcomes. FNS expects the Center to support WIC State agencies in improving enrollment and service delivery through a variety of ways, such as:

• Supporting State and local agencies in developing project ideas and proposals aimed at improving the participant journey and program outcomes;

• Helping State and local agencies use HCD, technology, and data more effectively in their clinic operations to increase enrollment and reduce disparities in program delivery;

• Assisting State and local agencies in addressing technical and/or service gaps; and

• Working with State and local agencies to implement holistic technology solutions and process changes. This might include helping them prototype, test, and iterate on potential solutions; and evaluating existing products or developing new ones for adoption by agencies. The Center might assist State and local agencies in procuring or implementing these solutions and measuring their impact on enrollment and retention.

Examples of solutions aimed at improving the applicant and participant experience may include:

• Participant-facing technology tools such as online schedulers, document uploaders, and participant portals;

• Data matching, interoperability, and/or cross-enrollment projects to reduce the documentation burden on participants;

• Technology platforms, which allow applicants to choose video, phone, text, or other voice applications to connect with WIC clinics;

• Content updates, such as content strategy or plain language updates to websites, forms, or notices;

• Data analytics tools; and

• Process improvements.

In addition to providing direct support to State and local agencies, FNS expects the Center to identify, evaluate, develop, and disseminate effective solutions and technical standards across States, and help WIC State agencies leverage their data to improve the WIC customer experience. It will also facilitate collaboration between WIC State agencies to address common operational issues.

FNS anticipates that the Center will support multiple WIC State agencies at once. The Center should have quick access to talent covering a spectrum of potential needs, and must be agile and capable of meeting shifting goals and objectives as they learn more about the problem space.

II. Responses

FNS is seeking information from stakeholders on the following questions. Responses should be limited to 10 single-spaced pages that follow the formatting guidelines above. Respondents should not include proprietary information or concepts in their responses.

FNS requests the following information:

(1) What capabilities should the Center have to effectively support State and local WIC agencies in implementing new technology solutions and process changes?

(2) How should the Center evaluate WIC State agency needs and prioritize projects?

(3) How should the Center work with State and local WIC agencies to help them modernize their WIC programs and improve the participant journey through WIC?

(4) How should the Center share and promote the reuse of best practices, solutions, code, reference implementations, and other resources among WIC State agencies to help them address common operational issues that impact the customer experience?

(5) How would you define and measure success for the Center?

(6) What risks do you foresee in establishing a Center to support WIC State agencies? How would you mitigate those risks?

(7) Do you have any other feedback or suggestions on this Center-based approach? Please describe in detail.

Cynthia Long,
Administrator, Food and Nutrition Service.

[FR Doc. 2021-25145 Filed 11-17-21; 8:45 am]

BILLING CODE 3410-30-P